DEPARTMENT OF COMMERCE

National Oceanic and Atmospheric Administration

[I.D. 031705F]

Fisheries of the Exclusive Economic Zone Off Alaska; Groundfish Fisheries Management in the Bering Sea and Aleutian Islands Management Area and the Gulf of Alaska

AGENCY: National Marine Fisheries Service (NMFS), National Oceanic and Atmospheric Administration (NOAA), Commerce.

ACTION: Approval of amendments to fishery management plans.

SUMMARY: NMFS announces the approval of Amendment 83 to the Fishery Management Plan (FMP) for Groundfish of the Bering Sea and Aleutian Islands Management Area (BSAI) and Amendment 75 to the FMP for Groundfish of the Gulf of Alaska (GOA). The amendments make housekeeping revisions to the FMPs. The revisions update harvest, ecosystem, and socioeconomic information, consolidate text, and reorganize the documents. The intent of this action is to update information in the FMPs and to make them easier to read. This action promotes the goals and objectives of the Magnuson-Stevens Fishery Conservation and Management Act (Magnuson-Stevens Act), the FMPs, and other applicable laws.

DATES: The amendments were approved on June 13, 2005.

ADDRESSES: Copies of Amendments 83 and 75 are available from the Sustainable Fisheries Division, Alaska Region, NMFS, P.O. Box 21668, Juneau, AK 99802, Attn: Lori Durall, or from the Alaska Region website at http://www.fakr.noaa.gov.

FOR FURTHER INFORMATION CONTACT: Melanie Brown, 907-586-7228 or melanie.brown@noaa.gov.

SUPPLEMENTARY INFORMATION: The Magnuson-Stevens Act requires that each Regional Fishery Management Council submit any FMP amendment it prepares to NMFS for review and approval, disapproval, or partial approval by the Secretary of Commerce (Secretary). The North Pacific Fishery Management Council (Council) prepared and the Secretary approved the FMP for Groundfish of the GOA in 1978 and the FMP for the Groundfish Fishery of the BSAI in 1981. Both FMPs have been amended numerous times.

Amendments 83 and 75 revise the FMPs by (1) updating harvest, ecosystem, and socioeconomic information, (2) consolidating text, and (3) reorganizing the documents. These revisions update information in the FMPs and make them easier to read.

Amendments 83 and 75 also revise the harvest specifications process set forth in the FMPs to be consistent with Amendments 81 and 74 to the groundfish FMPs (69 FR 31091, June 2, 2004). Amendments 81 and 74 were approved by the Secretary on August 23, 2004, and added new policy objectives to the FMPs, including the objective to adopt conservative harvest levels for multi-species and single species fisheries. Amendments 83 and 75 revise the FMPs' description of the harvest specifications process by requiring total allowable catch for species or species groups to be set equal to or less than the acceptable biological catch. This revision ensures that harvest levels are conservative and consistent with the FMP management policy and objectives to prevent overfishing.

Response to Comments

A notice of availability (NOA) for Amendments 83 and 75 to the FMPs, which described the proposed amendments and invited comments from the public, was published in the Federal Register on March 24, 2005, (70 FR 15067). The comment period ended May 23, 2005. NMFS received one comment which is summarized and responded to below.

Comment: Insufficient information is provided in the NOA. This proposed action should be republished with more explanation.

Response: The NOA provided a description of the action and several methods of receiving more detailed information. As explained in the NOA, the action is primarily housekeeping revisions that do not substantively change the FMPs. The only substantive change is the limitation on setting total allowable catch, which was explained in detail in the NOA.

The intent of a NOA is to provide the public with notice of a pending decision by the Secretary and to allow for prior public review and comment. The details of proposed FMP amendments are readily available, if more information is needed beyond that provided in the NOA. Because the action was described in enough detail in the NOA to allow the public to understand the nature of the action and additional information was available by mail, phone, NMFS Alaska Region website, and NMFS staff contacts listed in the NOA, the NOA was sufficient to notify the public of the proposed action and to allow for public comments. Therefore, no additional Federal Register notice is needed for this action.

Dated: June 14, 2005.
Anne M. Lange
Acting Director, Office of Sustainable Fisheries, National Marine Fisheries Service.

[FR Doc. 05-12104 Filed 6-17-05; 8:45 am]

BILLING CODE 3510-22-S